DEPARTMENT OF LABOR

Employment and Training Administration

[TA-W-74,813; TA-W-74,813A]

Eastman Kodak Company (GCG), Electrographic Print Solutions, Including On-Site Leased Workers From Adecco and Datrose, Spencerport, New York; Eastman Kodak Company, IPS, Including On-Site Leased Workers From Adecco, Dayton, Ohio; Amended Certification Regarding Eligibility To Apply for Worker Adjustment Assistance

In accordance with Section 223 of the Trade Act of 1974, as amended (“Act”), 19 U.S.C. 2273, the Department of Labor issued a Certification of Eligibility to Apply for Worker Adjustment Assistance on February 18, 2011, applicable to workers of Eastman Kodak Company (GCG), Electrographic Print Solutions, including on-site leased workers from Adecco and Datrose, Spencerport, New York. The Department's Notice of determination was published in the Federal Register on March 10, 2011 (76 FR 13228).

On its own motion, the Department reviewed the certification for workers of the subject firm. The workers were engaged in activities related to the production of printers and printer consumables. Eastman Kodak has filed for bankruptcy and has ceased to produce printers and printer consumables.

The Department determines that workers at Eastman Kodak Company, IPS, including on-site leased workers from Adecco, Dayton, Ohio, were affected by the shift in production to a foreign country which contributed importantly to the worker separations at Eastman Kodak Company (GCG), Electrographic Print Solutions, Spencerport, New York.

The amended notice applicable to TA-W-74,813 is hereby issued as follows:

All workers of Eastman Kodak Company (GCG), Electrographic Print Solutions, including on-site leased workers from Adecco and Datrose, Spencerport, New York (TA-W-74,813) and Eastman Kodak Company, IPS, including on-site leased workers from Adecco, Dayton, Ohio (TA-W-74,813A), who became totally or partially separated from employment on or after October 29, 2009 through February 18, 2013, and all workers in the group threatened with total or partial separation from employment on date of certification through two years from the date of certification, are eligible to apply for adjustment assistance under Chapter 2 of Title II of the Trade Act of 1974, as amended.

Signed in Washington, DC, this 19th day of March, 2013
Michael W. Jaffe,
Certifying Officer, Office of Trade Adjustment Assistance.

[FR Doc. 2013-07411 Filed 3-29-13; 8:45 am]

BILLING CODE 4510-FN-P